DEPARTMENT OF JUSTICE

Antitrust Division

Notice Pursuant to the National Cooperative Research and Production Act of 1993—North American Electric Reliability Council

Notice is hereby given that, on September 20, 2004, pursuant to section 6(a) of the National Cooperative Research and Production Act of 1993, 15 U.S.C. 4301 et seq. (“the Act”), North American Electric Reliability Council, a New Jersey nonprofit corporation (“NERC”), has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: North American Electric Reliability Council, Princeton, NJ. The nature and scope of NERC's standards development activities are: NERC's standards development activities encompass the full range of matters affecting the planning and reliable operation of the bulk electric system in North America, including matters relating to cyber and physical security. NERC's standards development activities include all aspects of standards development, including compliance assessment activities. NERC's standards development process is accredited by the American National Standards Institute.

Additional information with respect to NERC's standards development activities, including the full text of NERC's current standards and the standards under development, may be obtained from NERC's Web site: http://www.nerc.com.

Dorothy B. Fountain,
Deputy Director of Operations, Antitrust Division.

[FR Doc. 04-25081 Filed 11-9-04; 8:45 am]

BILLING CODE 4410-11-M